DEPARTMENT OF STATE

[Public Notice 3725]

Culturally Significant Objects Imported for Exhibition Determinations:”Masterpieces and Master Collectors: Impressionist and Early Modern Paintings From the Hermitage and Guggenheim Museums”

Department: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999 [64 FR 57920], as amended, I hereby determine that the objects to be included in the exhibit “Masterpieces and Master Collectors: Impresssionist and Early Modern Paintings from the Hermitage and Guggenheim Museums,” imported from abroad for the temporary exhibition without profit within the United States, are of cultural significance. These objects will be imported pursuant to a loan agreement with a foreign lender. I also determine that the temporary exhibition or display of the exhibit objects at the Guggenheim Hermitage Museum in Las Vegas, NV, from on or about September 16, 2001, to on or about March 17, 2002, is in the national interest. Public Notice of these determinations is ordered to be published in the Federal Register.

FOR FURTHER INFORMATION CONTACT: For further information, including a list of exhibit objects, contact Julianne Simpson, Attorney-Adviser, Office of the Legal Adviser, U.S. Department of State (telephone: 202/619-6529). The address is U.S. Department of State, SA-44, 301 4th Street, SW., Room 700, Washington, DC 20547-0001.

Dated: July 19, 2001.
Brian J. Sexton,
Deputy Assistant Secretary for Professional Exchanges, Bureau of Educational and Cultural Affairs, Department of State.

[FR Doc. 01-18569 Filed 7-24-01; 8:45 am]

BILLING CODE 4710-08-P